DEPARTMENT OF ENERGY

Federal Energy Regulatory Commission

[Docket No. GT02-1-002]

ANR Pipeline Company; Notice of Compliance Filing

October 4, 2002.

Take notice that on September 30, 2002, ANR Pipeline Company (ANR) filed a revised tariff sheet to eliminate two service agreements with Alcoa, Inc. and Alcoa Building Products, Inc. from its list of non-conforming agreements. The two agreements no longer contain MDQ adjustments provisions that the Commission found to constitute unacceptable material deviations in ANR Pipeline Company, 98 FERC ¶ 61,247 (2002).

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY (202) 502-8659. The Commission strongly encourages electronic filings. See, 18 CFR 385.2001(a)(1)(iii) and the instructions on the Commission's web site under the “e-Filing” link.

Magalie R. Salas,
Secretary.

[FR Doc. 02-25800 Filed 10-10-02; 8:45 am]

BILLING CODE 6717-01-P